DEPARTMENT OF HEALTH AND HUMAN SERVICES

Food and Drug Administration

[Docket No. FDA-2003-N-0103] (formerly Docket No. 2003N-0069)

Release of Task Force Report; Guidance for Industry and FDA: Interim Evidence-Based Ranking System for Scientific Data; Withdrawal of Guidance

AGENCY: Food and Drug Administration, HHS.

ACTION: Notice; withdrawal.

SUMMARY: The Food and Drug Administration (FDA) is announcing the withdrawal of the guidance entitled “Guidance for Industry and FDA: Interim Evidence-Based Ranking System for Scientific Data” that was issued on July 10, 2003.

DATES: The withdrawal is effective January 16, 2009.

FOR FURTHER INFORMATION CONTACT: Paula R. Trumbo, Center for Food Safety and Applied Nutrition (HFS-830), Food and Drug Administration, 5100 Paint Branch Pkwy., College Park, MD, 20740, 301-436-2579.

SUPPLEMENTARY INFORMATION: In a notice published in the Federal Register of July 11, 2003 (68 FR 41387), FDA announced the availability of a guidance entitled “Guidance for Industry and FDA: Interim Evidence-Based Ranking System for Scientific Data.” This guidance is being withdrawn because it is obsolete.

Dated: January 13, 2009.
Jeffrey Shuren,
Associate Commissioner for Policy and Planning.

[FR Doc. E9-959 Filed 1-15-09; 8:45 am]

BILLING CODE 4160-01-S